ENVIRONMENTAL PROTECTION AGENCY

[OPP-2004-0098; FRL-7677-8]

National Pesticide Information Center & National Pesticide Medical Monitoring Program; Notice of Funds Availability; Correction

AGENCY: Environmental Protection Agency (EPA).

ACTION: Notice; correction.

SUMMARY: EPA issued a notice in the Federal Register of August 23, 2004, announcing that EPA's Office of Pesticide Programs (OPP) is soliciting proposals from universities and colleges to develop or continue the National Pesticide Information Center (NPIC) and the National Pesticide Medical Monitoring Program (NPMMP). This document is being issued to correct a date error and to remove text that was inadvertently included.

FOR FURTHER INFORMATION CONTACT: Frank L. Davido, Information Resources and Services Divison (7502C), Office of Pesticide Programs, Environmental Protection Agency, 1200 Pennsylvania Ave., NW., Washington, DC 20460-0001; telephone number: (703) 305-7576; fax number: (703) 305-4646; e-mail address:davido.frank@epa.gov.

SUPPLEMENTARY INFORMATION:

I. General Information

A. Does this Action Apply to Me?

The Agency included in the Federal Register notice of August 23, 2004, a list of those who may be potentially affected by this action. If you have questions regarding the applicability of this action to a particular entity, consult the person listed underFOR FURTHER INFORMATION CONTACT.

B. How Can I Get Copies of this Document and Other Related Information?

1. Docket. EPA has established an official public docket for this action under docket identification (ID) number OPP-2004-0098. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

II. What Does this Correction Do?

In the Federal Register of August 23, 2004 (69 FR 51832) (FRL-7365-4) (FR Doc. 04-19232), EPA published a notice soliciting proposals from universities and colleges to develop or continue the NPIC and the NPMMP. The document listed an incorrect date and text was inadvertently included.

The document is corrected as follows:

1. On page 51839, second column, Unit H.1., second line, remove the phrase “, double spaced”.

2. On page 51839, third column, fourth bullet paragraph, remove the phrase “(not to exceed 10 pages)”.

3. On page 51840, first column, Unit I.1., sixth line, change “September 22, 2004” to read “October 7, 2004”.

List of Subjects

Environmental protection, Grants, Pesticides, Training.

Dated: September 16, 2004.
Martha Monell,
Acting Director, Office of Pesticide Programs.

[FR Doc. 04-21696 Filed 9-28-04; 8:45 am]

BILLING CODE 6560-50-S